ENVIRONMENTAL PROTECTION AGENCY

40 CFR Parts 3, 51, 60, 63, 70, 123, 142, 145, 162, 233, 257, 258, 271, 281, 403, 501, 745 and 763

[FRL-7125-3]

RIN 2025-AA07

Extension of Comment Period for and Public Meetings on the Proposed Establishment of Electronic Reporting; Electronic Records Rule

AGENCY: Environmental Protection Agency (EPA).

ACTION: Proposed rule; extension of comment period; announcement of public meetings.

SUMMARY: The Environmental Protection Agency (EPA) is extending by an additional 30 days the comment period on its proposed rule for establishment of electronic reporting and electronic records. On August 31, 2001 (66 FR 46162), EPA proposed conditions under which EPA would allow submission of electronic documents and maintenance of electronic records to satisfy federal environmental reporting and recordkeeping requirements in EPA's regulations. The comment period is being extended by 30 days to provide the public with additional time to evaluate and comment upon the complex provisions of this proposed rule. As extended by this action, the comment period will now close on February 27, 2002.

This document also announces the dates and locations for two additional public meetings on the proposed rule's recordkeeping provisions, which will be held before the public comment period closes.

DATES: The meetings will be held on: (1) Thursday, January 17, 2002, 10:00 a.m. to 5:30 p.m. (EST); and (2) Thursday, January 31, 2002, 10:00 a.m. to 5:30 p.m. (CST).

In order to be considered, written comments on the proposed electronic reporting and electronic records rule must be submitted on or before February 27, 2002. Comments provided electronically will be considered timely if they are submitted electronically by 11:59 p.m. (Eastern time) February 27, 2002.

ADDRESSES: The meetings will be held at: (1) The Wyndham Washington, 1400 M Street, NW, Washington, DC; and (2) the Holiday Inn Select, 4440 West Airport Freeway, Irving, Texas.

Comments should be addressed to the United States Environmental Protection Agency, Enforcement and Compliance Docket and Information Center, (Mail Code 2201A), Attn: Docket Number EC-2000-007, 1200 Pennsylvania Avenue, NW, Washington, DC 20460. Commenters are also requested to submit an original and 3 copies of their written comments as well as an original and 3 copies of any attachments, enclosures, or other documents referenced in the comments. Commenters who would like EPA to acknowledge receipt of their comments should include a self-addressed, stamped envelope. All comments must be postmarked or delivered by hand by February 27, 2002. No facsimiles (faxes) will be accepted. Public comments and supporting materials are available for viewing in the Enforcement and Compliance Docket and Information Center, located at 1200 Pennsylvania Avenue, NW, (Ariel Rios Building), 2nd Floor, Room 2213, Washington, DC 20460. The documents are available for viewing from 9 a.m. to 4 p.m., Monday through Friday, excluding federal holidays. To review docket materials, it is recommended that the public make an appointment by calling (202) 564-2614 or (202) 564-2119. The public may copy a maximum of 266 pages from any regulatory document at no cost. Additional copies cost $0.15 per page. The rule and some supporting materials are also available electronically on the Internet for public review, using a www browser type, at http://www.epa.gov/.

EPA will also accept comments electronically. Comments should be addressed to the following Internet address: docket.oeca@epa.gov. Electronic comments must be submitted as an ASCII, WordPerfect 5.1/6.1/8 format file and avoid the use of special characters or any form of encryption. Comments in electronic format should also be identified by the docket number EC-2000-007. Electronic comments will be transferred into a paper version for the official record. EPA will attempt to clarify electronic comments if there is an apparent error in transmission.

FOR FURTHER INFORMATION CONTACT: David Schwarz (2823), Office of Environmental Information, U.S. Environmental Protection Agency, 1200 Pennsylvania Avenue, NW, Washington, DC 20460, (202) 260-2710, schwarz.david@epa.gov, or Evi Huffer (2823), Office of Environmental Information, U.S. Environmental Protection Agency, 1200 Pennsylvania Avenue, NW, Washington, DC 20460, (202) 260-8791, huffer.evi@epa.gov.

SUPPLEMENTARY INFORMATION: On August 31, 2001 (66 FR 46162), EPA proposed a rule that would set forth the conditions under which EPA would prospectively allow submission of electronic documents and maintenance of electronic records to satisfy federal environmental reporting and recordkeeping requirements in EPA's regulations. As noted in the proposal (66 FR 46163), the rule would affect a broad spectrum of EPA programs (not merely those where specific amendments to the Code of Federal Regulations would be made). While the rule is voluntary because it does not require electronic reporting or recordkeeping, for most programs regulated entities that currently maintain electronic records and who wish to continue to do so after the rule takes effect would be required to meet the recordkeeping criteria in subpart D. As currently defined in the proposal, the term electronic record is broad in scope. Given the breadth and complexity of the rule, several commenters have requested additional time to evaluate and comment upon the proposed rule. EPA greatly values the input provided by the regulated community as well as the input from States that administer EPA programs. Accordingly, the comment period was extended by 60 days, to January 28, 2002, in a notice published in the Federal Register on Wednesday, November 28, 2001 (66 FR 59392-59393), to provide additional time to evaluate and comment upon the proposed rule.

To help foster this comment and evaluation, EPA has scheduled two additional public meetings on the proposed rule's recordkeeping provisions, on January 17, 2002, and on January 31, 2002. The meetings will focus on electronic recordkeeping issues raised by the proposed rule, and will be structured to take comments on at least the following questions: What kinds of records do companies currently keep electronically to satisfy EPA regulatory requirements? How prevalent is this electronic recordkeeping, and what kinds of systems are used? How are automatically captured data and other raw data maintained electronically? How will the proposed rule affect companies' electronic recordkeeping practices, and do some of the proposed provisions raise more issues than others? How do companies currently ensure the integrity and reliability of their electronic records, especially where they do not use audit trails, and what role do recognized industry standards play? What special issues are raised by proposed criteria for long-term archiving, and how do companies currently address this problem? Where archiving involves the conversion of electronic records to paper, how do companies assure data integrity and reliability, and what role do recognized industry standards play? Are there new products or technologies that will help companies address the proposed standards for electronic recordkeeping?

Also, to allow participants and other interested stakeholders to develop comments based on discussions at these public meetings, EPA is extending the comment period an additional 30 days. During this extended comment period, EPA particularly seeks comment on whether or not the recordkeeping provisions in subpart D of the proposed rule should be withdrawn and addressed in a separate rulemaking. EPA also seeks comment on revisions to the recordkeeping criteria or other provisions of the proposed rule that would make it easier for those in the regulated community who already maintain electronic records to continue to do so after the rule takes effect.

Dated: December 21, 2001.
Kim Nelson,
Assistant Administrator and Chief Information Officer, Office of Environmental Information.

[FR Doc. 02-109 Filed 1-2-02; 8:45 am]

BILLING CODE 6560-50-P